DEPARTMENT OF COMMERCE

Foreign-Trade Zones Board

[Docket 34-2009]

Foreign-Trade Zone 49—Newark, New Jersey Area, Application for Subzone Status, The Swatch Group (U.S.) Inc. (Watches, Jewelry Products and Leather Goods), Secaucus, New Jersey

An application has been submitted to the Foreign-Trade Zones Board (the Board) by the Port Authority of New York and New Jersey, grantee of FTZ 49, requesting special-purpose subzone status for the distribution facility of the Swatch Group (U.S.) Inc. (Swatch), located in Secaucus, New Jersey. The application was submitted pursuant to the provisions of the Foreign-Trade Zones Act, as amended (19 U.S.C. 81a-81u), and the regulations of the Foreign-Trade Zones Board (15 CFR part 400). It was formally filed on August 7, 2009.

The Swatch facility (56,110 sq. ft., 1 acre, 160 employees) is located at 55 Metro Way, Secaucus, New Jersey. It is used for the receipt, handling, packaging, and distribution of watches, jewelry products, and leather watch cases. All of the products are sourced from abroad and some 10-15% will be exported.

FTZ procedures could exempt Swatch from customs duty payments on the foreign goods exported from the proposed subzone. On domestic sales, the company would be able to defer duty payments until merchandise is shipped from the facility and entered for consumption. Certain logistical/supply chain management efficiencies would also be realized through the use of CBP weekly entry procedures. The application indicates that the savings from FTZ procedures would help improve the facility's international competitiveness.

In accordance with the Board's regulations, Claudia Hausler of the FTZ Staff is designated examiner to evaluate and analyze the facts and information presented in the application and case record and report findings and recommendations to the Board.

Public comment is invited from interested parties. Submissions (original and 3 copies) shall be addressed to the Board's Executive Secretary at the address below. The closing period for their receipt is October 16, 2009. Rebuttal comments in response to material submitted during the foregoing period may be submitted during the subsequent 15-day period to November 2, 2009.

A copy of the application will be available for public inspection at the Office of the Executive Secretary, Foreign-Trade Zones Board, Room 2111, U.S. Department of Commerce, 1401 Constitution Avenue, NW, Washington, DC 20230-0002 and in the “Reading Room” section of the Board's Web site, which is accessible via www.trade.gov/ftz. For further information, contact Claudia Hausler at Claudia_Hausler@ita.doc.gov, or (202) 482-1379.

Dated: August 7, 2009.
Andrew McGilvray,
Executive Secretary.

[FR Doc. E9-19677 Filed 8-14-09; 8:45 am]

BILLING CODE 3510-DS-S